DEPARTMENT OF HOMELAND SECURITY

Coast Guard

33 CFR Part 117

[Docket No. USCG-2024-0745]

RIN 1625-AA09

Drawbridge Operation Regulation; Sacramento River, Rio Vista, CA

AGENCY: Coast Guard, DHS.

ACTION: Temporary interim rule with request for comments.

SUMMARY: The Coast Guard is temporarily modifying the operating schedule that governs the draw of the California Department of Transportation Rio Vista (State Route 12) highway bridge across the Sacramento River, mile 12.8, at Rio Vista, CA. This action is necessary to allow the bridge owner to complete rehabilitation of the bridge.

DATES: This temporary interim rule is effective from November 4, 2024 through 5 p.m. on August 29, 2025.

Comments and related material must reach the Coast Guard on or before December 4, 2024.

ADDRESSES: To view documents mentioned in this preamble as being available in the docket, go to https://www.regulations.gov. Type the docket number (USCG-2024-0745) in the “SEARCH” box and click “SEARCH”. In the Document Type column, select “Supporting & Related Material”.

FOR FURTHER INFORMATION CONTACT: If you have questions on this temporary interim rule, call or email Carl Hausner, Chief, Bridge Section, Eleventh Coast Guard District; telephone 510-219-4366, email D11Bridges@uscg.mil.

SUPPLEMENTARY INFORMATION:

I. Table of Abbreviations

Caltrans California Department of Transportation

CFR Code of Federal Regulations

DHS Department of Homeland Security

FR Federal Register

MHW Mean High Water

NOTD Notice of Temporary Deviation

NPRM Notice of proposed rulemaking

Pub. L. Public Law

§ Section

U.S.C. United States Code

II. Background Information and Regulatory History

The Coast Guard is issuing this temporary interim rule without prior notice and opportunity to comment pursuant to authority under the authority in 5 U.S.C. 553(b)(B). This provision authorizes an agency to issue a rule without prior notice and opportunity to comment when the agency for good cause finds that those procedures are “impracticable, unnecessary, or contrary to the public interest.” The Coast Guard finds that good cause exists for not publishing a notice of proposed rulemaking (NPRM) with respect to this rule because it is impracticable and contrary to the public interest due to Caltrans Headquarters continuing to add projects to the ongoing rehabilitation project, which will require extending the length of time for advance notice for opening the span. The current NOTD expires November 1, 2024 and the Coast Guard cannot add additional dates to that NOTD because it will extend the NOTD beyond the allowed 180 days. The continuation of the temporary deviation is necessary for the safety of the work crews on the bridge.

Also, under 5 U.S.C. 553(d)(3), the Coast Guard finds that good cause exists for making this rule effective less than 30 days after publication in the Federal Register. Delaying the effective date of this rule would be impracticable and contrary to the public interest because Caltrans has allocated funds for additional rehabilitation work on the bridge, necessary to keep the bridge functional for the foreseeable future.

On May 1, 2024, the Coast Guard issued a General Deviation pursuant to 33 CFR 117.5, which allowed the bridge owner, Caltrans, to deviate from the current operating schedule to conduct major mechanical, electrical, and structural rehabilitation of the bridge. The General Deviation expires on November 1, 2024. Currently, the bridge will open on signal if at least 4-hours' notice is given to the drawtender. As of this date, new traffic gates have been installed, up-haul and down-haul wire ropes replaced, new primary and secondary drives have been installed, and new vertical clearance gauges mounted. Caltrans' Headquarters continues to allocate more funding for new projects to continue bridge rehabilitation. Projects that will be started in the calendar year 2024 and 2025 include: installing new tower elevators, repairing the east bridge portal, upgrading the traffic barriers hydraulic power units, repairing the span's cable reel and replacing the lift span roadway deck. These projects will require workers to be constantly on the lift span and towers of the bridge. For the safety of the workers on and around the mechanical workings of the bridge, Caltrans has requested the 4-hour advance notice for openings be extended through August 29, 2025. Due to Caltrans' Headquarters continuously allocating additional funds for rehabilitation projects, there is insufficient time to provide a reasonable comment period and then consider those comments before issuing the modification.

III. Legal Authority and Need for Rule

The Coast Guard is issuing this temporary interim rule under authority in 33 U.S.C. 499.

The Coast Guard is modifying the operating schedule that governs the draw of the California Department of Transportation Rio Vista (State Route 12) highway bridge across the Sacramento River, mile 12.8, at Rio Vista, CA. The Rio Vista bridge has a vertical clearance of 17 feet at MHW in the closed-to-navigation position and 144 feet at MHW in the fully open-to-navigation position.

The existing drawbridge regulation, 33 CFR 117.5, states “Except as otherwise authorized or required by this part, drawbridges must open promptly and fully for the passage of vessels when a request or signal to open is given in accordance with this subpart”. The bridge is currently operating under a temporary deviation from the operating regulations, allowing the bridge to open on signal if at least 4-hours' notice is given to the drawtender. Caltrans, the bridge owner, has requested to extend the 4-hour advance notification in order to safely complete bridge rehabilitation.

IV. Discussion of the Temporary Interim Rule

The Coast Guard is issuing this rule, which permits a temporary deviation from the operating schedule that governs the draw of the California Department of Transportation Rio Vista (State Route 12) highway bridge across the Sacramento River, mile 12.8, at Rio Vista, CA. This rule allows the bridge to open on signal if at least 4-hours' notice is given to the drawtender through 5 p.m. on August 29, 2025.

As the bridge rehabilitation continues, Caltrans has the following projects to complete: installing new tower elevators, repairing the east portal, upgrading the barriers hydraulic power units, repairing the span's cable reel and replacing the lift span roadway deck. This work will require workers to be in or around the towers' working machinery and in or around the lift span of the bridge. For the safety of the workers, Caltrans is requesting this temporary change so the workers can safely demobilize before the lift span operates. It is anticipated the rehabilitation work will be completed by August 29, 2025.

V. Regulatory Analyses

We developed this temporary interim rule after considering numerous statutes and Executive orders related to rulemaking. Below we summarize our analyses based on a number of these statutes and Executive orders.

A. Regulatory Planning and Review

Executive Orders 12866 and 13563 direct agencies to assess the costs and benefits of available regulatory alternatives and, if regulation is necessary, to select regulatory approaches that maximize net benefits. This rule has not been designated a “significant regulatory action,” under Executive Order 12866 as amended by Executive Order 14094. Accordingly, it has not been reviewed by the Office of Management and Budget (OMB).

This regulatory action determination is based on the ability that vessels can still transit the bridge given advanced notice.

B. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities.

While some owners or operators of vessels intending to transit the bridge may be small entities, for the reasons stated in section V.A above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule calls for no new collection of information under the Paperwork Reduction Act of 1995 (44 U.S.C. 3501-3520).

D. Federalism and Indian Tribal Government

A rule has implications for federalism under Executive Order 13132, Federalism, if it has a substantial direct effect on the States, on the relationship between the national government and the States, or on the distribution of power and responsibilities among the various levels of government. We have analyzed this rule under that Order and have determined that it is consistent with the fundamental federalism principles and preemption requirements described in Executive Order 13132.

Also, this rule does not have Tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 (adjusted for inflation) or more in any one year. Though this rule will not result in such an expenditure, we do discuss the effects of this rule elsewhere in this preamble.

F. Environment

We have analyzed this rule under Department of Homeland Security Management Directive 023-01, Rev.1, associated implementing instructions, and Environmental Planning Policy COMDTINST 5090.1 (series) which guide the Coast Guard in complying with the National Environmental Policy Act of 1969 (NEPA)(42 U.S.C. 4321-4370f). The Coast Guard has determined that this action is one of a category of actions that do not individually or cumulatively have a significant effect on the human environment. This rule promulgates the operating regulations or procedures for drawbridges and is categorically excluded from further review, under paragraph L49, of Chapter 3, Table 3-1 of the U.S. Coast Guard Environmental Planning Implementation Procedures.

Neither a Record of Environmental Consideration nor a Memorandum for the Record are required for this rule.

List of Subjects in 33 CFR Part 117

Bridges.

For the reasons discussed in the preamble, the Coast Guard amends 33 CFR part 117 as follows:

PART 117—DRAWBRIDGE OPERATION REGULATIONS

1. The authority citation for part 117 continues to read as follows:

Authority: 33 U.S.C. 499; 33 CFR 1.05-1; DHS Delegation No. 00170.1, Revision No. 01.3.

2. In § 117.189, add new paragraph (e) to read as follows:

§ 117.189 Sacramento River.

* * * * *

(e) The draw of the California Department of Transportation Rio Vista (State Route 12) highway bridge, mile 12.8, at Rio Vista, shall open on signal through August 29, 2025 if at least 4 hours' notice is given to the drawtender.

Dated: October 28, 2024.
Taylor Q. Lam,
Captain, U.S. Coast Guard, Acting Commander, Eleventh Coast Guard District.

[FR Doc. 2024-25603 Filed 11-1-24; 8:45 am]

BILLING CODE 9110-04-P